INTER-AMERICAN FOUNDATION

Sunshine Act; Meetings

Time and Date: May 22, 2006, 9 a.m.-12:30 p.m.

Place: 901 N. Stuart Street, Tenth Floor, Arlington, Virginia 22203.

Status: Open session except for the portion specified as closed session as provided in 22 CFR part 1004.4 (f).

Matters to be Considered:

• Personnel Issues.

• Approval of the Minutes of the October 14, 2005, Meeting of the Board of Directors.

• President's Report.

• Fellowship Program.

• RedEAmérica Update.

• Congressional Activities and Strategy.

• Advisory Council.

Portions to be Open to the Public: • Approval of the Minutes of the October 14, 2005, Meeting of the Board of Directors.

• President's Report.

• Fellowship Program.

• RedEAmérica Update.

• Congressional Activities and Strategy.

• Advisory Council.

Portions to be Closed to the Public: • Personnel issues. Closed session as provided in 22 CFR part 1004.4 (f).

For Further Information Contact: Jennifer R. Hodges, General Counsel, (703) 306-4320.

Dated: May 4, 2006.
Jennifer R. Hodges,
General Counsel.

[FR Doc. 06-4342 Filed 5-5-06; 10:30 am]

BILLING CODE 7025-01-P